DEPARTMENT OF ENERGY

Federal Energy Regulatory Commission

Combined Notice of Filings #1

Take notice that the Commission received the following exempt wholesale generator filings:

Docket Numbers: EG23-186-000.

Applicants: Earthrise Gibson City Interconnection, LLC.

Description: Earthrise Gibson City Interconnection, LLC submits Notice of Self-Certification of Exempt Wholesale Generator Status.

Filed Date: 6/8/23.

Accession Number: 20230608-5052.

Comment Date: 5 p.m. ET 6/29/23.

Docket Numbers: EG23-187-000.

Applicants: Earthrise Lincoln Interconnection, LLC.

Description: Earthrise Lincoln Interconnection, LLC submits Notice of Self-Certification of Exempt Wholesale Generator Status.

Filed Date: 6/8/23.

Accession Number: 20230608-5053.

Comment Date: 5 p.m. ET 6/29/23.

Docket Numbers: EG23-188-000.

Applicants: Earthrise Shelby County Interconnection, LLC.

Description: Earthrise Shelby County Interconnection, LLC submits Notice of Self-Certification of Exempt Wholesale Generator Status.

Filed Date: 6/8/23.

Accession Number: 20230608-5076.

Comment Date: 5 p.m. ET 6/29/23.

Docket Numbers: EG23-189-000.

Applicants: Earthrise Tilton Interconnection, LLC.

Description: Earthrise Tilton Interconnection, LLC submits Notice of Self-Certification of Exempt Wholesale Generator Status.

Filed Date: 6/8/23.

Accession Number: 20230608-5078.

Comment Date: 5 p.m. ET 6/29/23.

Docket Numbers: EG23-190-000.

Applicants: Earthrise Crete Interconnection, LLC.

Description: Earthrise Crete Interconnection, LLC submits Notice of Self-Certification of Exempt Wholesale Generator Status.

Filed Date: 6/8/23.

Accession Number: 20230608-5081.

Comment Date: 5 p.m. ET 6/29/23.

Take notice that the Commission received the following Complaints and Compliance filings in EL Dockets:

Docket Numbers: EL23-75-000.

Applicants: CPV Maryland, LLC and Competitive Power Ventures Holdings, LP v. PJM Interconnection, L.L.C.

Description: Complaint of CPV Maryland, LLC and Competitive Power Ventures Holdings, LP v. PJM Interconnection, L.L.C.

Filed Date: 6/7/23.

Accession Number: 20230607-5151.

Comment Date: 5 p.m. ET 7/7/23.

Take notice that the Commission received the following electric rate filings:

Docket Numbers: ER10-2374-016; ER17-2059-011.

Applicants: Puget Sound Energy, Inc., Puget Sound Energy, Inc.

Description: Supplement to June 30, 2022, Triennial Market Power Analysis for the Northwest Region of Puget Sound Energy, Inc.

Filed Date: 5/3/23.

Accession Number: 20230503-5175.

Comment Date: 5 p.m. ET 6/28/23.

Docket Numbers: ER14-1818-026.

Applicants: Boston Energy Trading and Marketing LLC.

Description: Updated Market Power Analysis for Northwest Region of Boston Energy Trading and Marketing LLC.

Filed Date: 6/6/23.

Accession Number: 20230606-5230.

Comment Date: 5 p.m. ET 8/7/23.

Docket Numbers: ER20-1435-003.

Applicants: Energy Harbor LLC.

Description: Compliance filing: Informational Filing Regarding Planned Transfer to be effective N/A.

Filed Date: 6/8/23.

Accession Number: 20230608-5136.

Comment Date: 5 p.m. ET 6/29/23.

Docket Numbers: ER20-2259-002.

Applicants: New York Transco, LLC, New York Independent System Operator, Inc.

Description: Compliance filing: New York Transco, LLC submits tariff filing per 35: NY Transco Response to May 9, 2023 Deficiency Letter on Order No. 864 Compliance to be effective 1/27/2020.

Filed Date: 6/8/23.

Accession Number: 20230608-5063.

Comment Date: 5 p.m. ET 6/29/23.

Docket Numbers: ER21-385-005

Applicants: Upper Missouri G. & T. Electric Cooperative, Inc.

Description: Compliance filing: Compliance Filing—Second Partial Settlement (ER21-385) to be effective 4/1/2023.

Filed Date: 6/8/23.

Accession Number: 20230608-5054.

Comment Date: 5 p.m. ET 6/29/23.

Docket Numbers: ER23-959-001.

Applicants: PJM Interconnection, L.L.C.

Description: Tariff Amendment: Amendment to WMPA, SA No. 6154 re: Effective Date in Docket No. ER23-959 to be effective 3/28/2023.

Filed Date: 6/8/23.

Accession Number: 20230608-5072.

Comment Date: 5 p.m. ET 6/29/23.

Docket Numbers: ER23-1741-001.

Applicants: ISO New England Inc., The Narragansett Electric Company.

Description: Tariff Amendment: ISO New England Inc. submits tariff filing per 35.17(b): Amendment to Filing of Second Revised LGIA-ISONE/NEP-15-01 to be effective 1/1/2023.

Filed Date: 6/8/23.

Accession Number: 20230608-5107.

Comment Date: 5 p.m. ET 6/29/23.

Docket Numbers: ER23-1773-001.

Applicants: Pomona Energy Storage 2 LLC.

Description: Tariff Amendment: Amendment to be effective 7/1/2023.

Filed Date: 6/8/23.

Accession Number: 20230608-5135.

Comment Date: 5 p.m. ET 6/29/23.

Docket Numbers: ER23-2094-000.

Applicants: RE Gaskell West 3 LLC.

Description: Initial rate filing: Certification of Concurrence to LGIA CTA to be effective 6/8/2023.

Filed Date: 6/7/23.

Accession Number: 20230607-5162.

Comment Date: 5 p.m. ET 6/28/23.

Docket Numbers: ER23-2095-000.

Applicants: Niagara Mohawk Power Corporation, New York Independent System Operator, Inc.

Description: § 205(d) Rate Filing: Niagara Mohawk Power Corporation submits tariff filing per 35.13(a)(2)(iii: Niagara Mohawk 205: CRA between Niagara Mohawk, City of Sherrill SA2784 to be effective 5/9/2023.

Filed Date: 6/8/23.

Accession Number: 20230608-5014.

Comment Date: 5 p.m. ET 6/29/23.

Docket Numbers: ER23-2096-000

Applicants: PJM Interconnection, L.L.C.

Description:§ 205(d) Rate Filing: Amendment to ISA, Service Agreement No. 6582; Queue No. AE2-333 to be effective 8/8/2023.

Filed Date: 6/8/23.

Accession Number: 20230608-5019.

Comment Date: 5 p.m. ET 6/29/23.

Docket Numbers: ER23-2097-000.

Applicants: PJM Interconnection, L.L.C.

Description: § 205(d) Rate Filing: Amendment to WMPA, Service Agreement No. 5608; Queue No. AE1-218 re: Milestones to be effective 8/7/2023.

Filed Date: 6/8/23.

Accession Number: 20230608-5020.

Comment Date: 5 p.m. ET 6/29/23.

Docket Numbers: ER23-2098-000.

Applicants: PPL Electric Utilities Corporation, PJM Interconnection, L.L.C.

Description: Tariff Amendment: PPL Electric Utilities Corporation submits tariff filing per 35.15: Notice of Cancellation of ISA, SA No. 5750 to be effective 8/8/2023.

Filed Date: 6/8/23.

Accession Number: 20230608-5030.

Comment Date: 5 p.m. ET 6/29/23.

Docket Numbers: ER23-2099-000.

Applicants: Astoria Gas Turbine Power LLC.

Description: Tariff Amendment: Notice of Cancellation to be effective 6/9/2023.

Filed Date: 6/8/23.

Accession Number: 20230608-5033.

Comment Date: 5 p.m. ET 6/29/23.

Docket Numbers: ER23-2100-000.

Applicants: PPL Electric Utilities Corporation, PJM Interconnection, L.L.C.

Description: Tariff Amendment: PPL Electric Utilities Corporation submits tariff filing per 35.15: Notice of Cancellation of ISA, SA No. 5770 to be effective 8/8/2023.

Filed Date: 6/8/23.

Accession Number: 20230608-5036.

Comment Date: 5 p.m. ET 6/29/23.

Docket Numbers: ER23-2101-000.

Applicants: Southwest Power Pool, Inc.

Description: § 205(d) Rate Filing: 2198R33 Kansas Power Pool NITSA NOA to be effective 6/1/2023.

Filed Date: 6/8/23.

Accession Number: 20230608-5037.

Comment Date: 5 p.m. ET 6/29/23.

Docket Numbers: ER23-2102-000.

Applicants: PPL Electric Utilities Corporation, PJM Interconnection, L.L.C.

Description: Tariff Amendment: PPL Electric Utilities Corporation submits tariff filing per 35.15: Notice of Cancellation of ISA, SA No. 5771 to be effective 8/8/2023.

Filed Date: 6/8/23.

Accession Number: 20230608-5038.

Comment Date: 5 p.m. ET 6/29/23.

Docket Numbers: ER23-2103-000.

Applicants: Midcontinent Independent System Operator, Inc., Great River Energy.

Description: § 205(d) Rate Filing: Midcontinent Independent System Operator, Inc. submits tariff filing per 35.13(a)(2)(iii: 2023-06-08_SA 3668 GRE-WMU T-T & T-L and Amendment No. 1 to be effective 6/17/2021.

Filed Date: 6/8/23.

Accession Number: 20230608-5049.

Comment Date: 5 p.m. ET 6/29/23.

Docket Numbers: ER23-2104-000.

Applicants: Alabama Power Company, Georgia Power Company, Mississippi Power Company.

Description: § 205(d) Rate Filing: Alabama Power Company submits tariff filing per 35.13(a)(2)(iii: PowerSouth NITSA Amendment (Revise OATT Capacity Credit Provision) to be effective 1/1/2023.

Filed Date: 6/8/23.

Accession Number: 20230608-5061.

Comment Date: 5 p.m. ET 6/29/23.

Docket Numbers: ER23-2105-000.

Applicants: Alabama Power Company, Georgia Power Company, Mississippi Power Company

Description: § 205(d) Rate Filing: Alabama Power Company submits tariff filing per 35.13(a)(2)(iii: SEPA Amended and Restated Network Agreement Amendment Filing (Revision No. 12) to be effective 5/9/2023.

Filed Date: 6/8/23.

Accession Number: 20230608-5062.

Comment Date: 5 p.m. ET 6/29/23.

Docket Numbers: ER23-2106-000.

Applicants: PJM Interconnection, L.L.C.

Description: § 205(d) Rate Filing: Original ISA, SA No. 6922; Queue No. AF1-158 & Cancellation of IISA, SA No. 6443 to be effective 5/9/2023.

Filed Date: 6/8/23.

Accession Number: 20230608-5067.

Comment Date: 5 p.m. ET 6/29/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 8, 2023.
Debbie-Anne A. Reese,
Deputy Secretary.

[FR Doc. 2023-12737 Filed 6-13-23; 8:45 am]

BILLING CODE 6717-01-P